ENVIRONMENTAL PROTECTION AGENCY

40 CFR Parts 51, 72, 75, and 96

[FRL-7619-9]

Public Hearings for Rule To Reduce Interstate Transport of Fine Particulate Matter and Ozone (Interstate Air Quality Rule) and Proposed National Emission Standards for Hazardous Air Pollutants; and, in the Alternative, Proposed Standards of Performance for New and Existing Stationary Sources: Electric Utility Steam Generating Units

AGENCY: Environmental Protection Agency (EPA).

ACTION: Proposed rules; announcement of public hearings.

SUMMARY: In a Federal Register document published on February 2, 2004, EPA announced the dates and cities for three public hearings to be held jointly for two related proposals. Today's document provides the remaining details for the hearings, including the facility locations and daily schedules.

The public hearings are for the proposed “Rule to Reduce Interstate Transport of Fine Particulate Matter and Ozone (Interstate Air Quality Rule)” and the “Proposed National Emission Standards for Hazardous Air Pollutants; and, in the Alternative, Proposed Standards of Performance for New and Existing Stationary Sources: Electric Utility Steam Generating Units,” which is also known as the proposed Utility Mercury Reductions Rule. These proposals were published in the Federal Register on January 30, 2004.

DATES: The three 2-day public hearings will be held concurrently on February 25 and 26, 2004. Please refer to SUPPLEMENTARY INFORMATION for additional information on the public hearings.

ADDRESSES: The hearings will be held at the following locations:

1. Hilton Chicago, 720 South Michigan Avenue, Chicago, Illinois 60605, phone 312-726-7500;

2. Wyndham Philadelphia at Franklin Plaza, 17th and Race Streets, Philadelphia, PA 19103, phone 215-448-2000;

3. Holiday Inn Raleigh-Durham Airport, 4810 Old Page Road, Research Triangle Park, NC, 919-941-6000.

Written comments on these proposed rules may also be submitted to EPA electronically, by mail, by facsimile, or through hand delivery/courier. Please refer to the proposals for the addresses and detailed instructions.

Documents relevant to this action are available for public inspection at the EPA Docket Center, located at 1301 Constitution Avenue, NW., Room B102, Washington, DC between 8:30 a.m. and 4:30 p.m., Monday through Friday, excluding legal holidays. A reasonable fee may be charged for copying. Documents are also available through EPA's electronic Docket system at http://www.epa.gov/edocket.

The EPA Web sites for the rulemakings, which include the proposals and information about the public hearings, are at http://www.epa.gov/interstateairquality and http://www.epa.gov/mercury.

FOR FURTHER INFORMATION CONTACT: If you would like to speak at the public hearings or have questions concerning the public hearings, please contact JoAnn Allman at the address given below under SUPPLEMENTARY INFORMATION. Questions concerning the Interstate Air Quality Rule should be addressed to Scott Mathias, U.S. EPA, Office of Air Quality Planning and Standards, Air Quality Strategies and Standards Division (C539-01), Research Triangle Park, NC 27711, telephone number (919) 541-5310, e-mail at mathias.scott@epa.gov. Questions concerning the Utility Mercury Reductions Rule should be addressed to William Maxwell, U.S. EPA, Office of Air Quality Planning and Standards, Emission Standards Division, Combustion Group (C439-01), Research Triangle Park, NC 27711, telephone number (919) 541-5430, e-mail at maxwell.bill@epa.gov.

SUPPLEMENTARY INFORMATION:

The Proposed Rules

The EPA's proposed Interstate Air Quality Rule would reduce emissions of sulfur dioxide and nitrogen dioxides in 29 eastern States and the District of Columbia that are significantly contributing to fine particulate matter and 8-hour ozone nonattainment problems in downwind States. Each State would be required to adopt control measures to meet specific statewide emission reduction requirements. The EPA believes that the most cost-effective way for States to achieve the required reductions would be to regulate utilities under a cap and trade program similar to EPA's highly successful Acid Rain Program. The proposed Utility Mercury Reductions Rule provides options that would reduce mercury emissions and would set a mandatory, declining cap on the total mercury emissions allowed from utilities nationwide. The proposal also would reduce nickel emissions from utilities. The EPA is coordinating these rulemakings to allow the emissions reductions to be achieved in the most cost-effective manner by sources affected by both actions.

Public Hearings

The proposals for which EPA is holding the public hearings were published in the Federal Register on January 30, 2004 (69 FR 4566 for the Interstate Air Quality Rule and 69 FR 4652 for the Utility Mercury Reductions Rule) and are available on the Web sites listed under ADDRESSES. The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be postmarked by the last day of the comment period, as specified in the proposals.

The three 2-day public hearings will be held concurrently in Chicago, Illinois; Philadelphia, Pennsylvania; and Research Triangle Park, North Carolina. Each hearing will last two days and is scheduled for February 25 and 26, 2004. Persons wishing to present oral testimony for one or both proposals may speak on either day. The meeting facilities and their phone numbers are provided above under ADDRESSES.

If you would like to present oral testimony at the hearings, please notify JoAnn Allman, U.S. EPA, Office of Air Quality Planning and Standards, Air Quality Strategies and Standards Division, C539-02, Research Triangle Park, NC 27711, telephone (919) 541-1815, e-mail allman.joann@epa.gov no later than February 20, 2004. She will provide you with a specific time and date to speak.

The public hearings will begin each day at 8 a.m. and continue into the evening until 9 p.m., or later if necessary, depending on the number of speakers. On the evening of the second day, February 26, EPA will accommodate all speakers that arrive and register by 8 p.m. or that have arranged in advance to speak at a later time. The EPA is scheduling lunch breaks from 12:30 until 2 p.m. and dinner breaks from 6 to 7:30 p.m. each day.

Oral testimony will be limited to 10 minutes for each commenter to address either or both proposals. We will not be providing equipment for commenters to show overhead slides or make computerized slide presentations unless we receive special requests in advance. Commenters should notify JoAnn Allman if they will need specific equipment. The EPA encourages commenters to provide written versions of their oral testimonies either electronically on computer disk or CD ROM or in paper copy.

The hearing schedules, including lists of speakers, will be posted on EPA's Web pages for the proposals at http://www.epa.gov/interstateairquality and http://www.epa.gov/mercury prior to the hearing. Verbatim transcripts of the hearings and written statements will be included in the rulemaking dockets.

How Can I Get Copies of This Document and Other Related Information?

The EPA has established the official public docket for the Interstate Air Quality Rule under Docket ID No. OAR-2003-0053. The EPA has established the official public docket for the Utility Mercury Reductions Rule under Docket ID No. OAR-2002-0056. The EPA has also developed Web sites for the proposals at the addresses given above. Please refer to the proposals, which were published in the Federal Register on January 30, 2004, for detailed information on accessing information related to the proposals.

Dated: February 4, 2004.
Anna B. Duncan,
Acting Director, Office of Air Quality Planning and Standards.

[FR Doc. 04-2814 Filed 2-9-04; 8:45 am]

BILLING CODE 6560-50-U